DEPARTMENT OF DEFENSE

Office of the Secretary

[Docket ID: DOD-2017-OS-0066]

Guantanamo Bay to Punta Salinas, Toa Baja, Puerto Rico Submarine Fiber Optic Cable System (GTMO-PR SFOC); Environmental Assessment (EA)/Finding of No Significant Impact (FONSI)

AGENCY: U.S. Defense Information Systems Agency, DoD.

ACTION: Notice of availability.

SUMMARY: The Defense Information Systems Agency (DISA) is announcing that it has prepared an Environmental Assessment (EA) and issued a Finding of No Significant Impact (FONSI) relating to DISA's evaluation of the Proposed Action and Alternatives to installing Submarine Fiber Optic Cable (SFOC) for communication purposes between the DISN Facilities at U.S. Naval Station Guantanamo Bay, Cuba (GTMO) and Ft. Buchanan, Puerto Rico in order to supply high Bandwidth and restoration capability to DoD activities at GTMO. This SFOC will improve long-haul communications between the continental U.S. (CONUS), Puerto Rico and GTMO. The FONSI reports the studies that prove that there will be no significant environmental impact from the installation of this SFOC. This notice announces the availability of the final EA and FONSI to concerned agencies and the public.

DATES: The public comment period will end on January 22, 2018.

ADDRESSES: Requests to receive a copy of the EA or FONSI should be mailed to Defense Information Systems Agency, Public Affairs Officer, P.O. Box 549, Ft. Meade, MD 20755-0549. Arrangements must be made in advance to pick up the documents, due to facility security requirements.

You may submit comments, identified by docket number and title, by any of the following methods:

• Federal eRulemaking Portal: http://www.regulations.gov. Follow the instructions for submitting comments.

• Mail: Department of Defense, Office of the Deputy Chief Management Officer, Directorate for Oversight and Compliance, Regulatory and Advisory Committee Division, 4800 Mark Center Drive, Mailbox #24, Suite 08D09B, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: DISA Public Affairs at 301-225-8100 or disa.meade.bd.mbx.public-affairs@mail.mil or DISA, P.O. Box 549, Ft. Meade, MD 20755-0549.

SUPPLEMENTARY INFORMATION:

Background: Pursuant to the Council on Environmental Quality (CEQ) regulations for implementing the procedural provisions of the National Environmental Policy Act (NEPA; 40 Code of Federal Regulations [CFR] 1500-1508) and 32 CFR part 188, Environmental Effects in the United States of DoD Actions, the U.S. Defense Information Systems Agency (DISA) prepared an Environmental Assessment (EA) to analyze the installation of a submarine fiber optic cable connecting the Defense Information System Network (DISN) node located offshore at Guantanamo Bay (GTMO), Cuba to the DISN node located in Fort Buchanan, Puerto Rico. The DISA is a Department of Defense (DoD) combat support agency under the direction, authority and control of the Assistant Secretary of Defense for Command, Control, Communications, and Intelligence (ASD [C31]).

The proposed Guantanamo Bay to Puerto Rico Submarine Fiber Optic Cable system (GTMO-PR SFOC) comprises a marine cable route approximately 1,400 kilometers (756 nm) in length from a pre-laid shore end stub cable (installed in 2016 as part of Phase 1 SFOC (published at 80 FR 12985-12986, March 12, 2015)) ending 19 kilometers (10/26 nautical miles) offshore of the Guantanamo Bay Naval Station, Cuba to the DISN node located in Fort Buchanan, Bayamon, Puerto Rico. The landing location for Puerto Rico is the Puerto Rico Air National Guard (PRANG) Radar installation located in Punta Salinas, Toa Baja through a horizontally directional drilled (HDD) pipe. For the subsequent connection to the Army Reserves Base, Fort Buchanan in Bayamon, DISA will lease commercial 10 Gb/s lit services to facilitate the terrestrial connection.

Purpose and Need: The DISA GTMO Cable System Project Management Office developed communication services by installing an SFOC during Phase 1 that connected the DISN node located at GTMO to the DISN node located in Miami, FL to substantially improve the long-haul communications between the continental U.S. (CONUS) and GTMO. Long-haul communications requirements at GTMO are rapidly expanding and require a secure redundant path to and from CONUS. This is currently provided by commercial satellite services. Phase 2 of the project for this additional SFOC system from GTMO to Puerto Rico will provide significantly more bandwidth than satellite services, exhibit very low latency, and not be subject to adverse atmospheric conditions, such as severe weather (e.g., tropical rain storms and hurricanes). Therefore, the Phase 2 SFOC system is proposed to increase the level and reliability of communication service between CONUS and GTMO. The EA and this FONSI were prepared in compliance with the NEPA (42 U.S.C. 4321-4347), CEQ regulations for implementing the procedural provisions of the NEPA (40 Code of Federal Regulations [CFR] 1500-1508), and 32 CFR part 188, Environmental Effects in the United States of DoD Actions. The EA considers all potential impacts of the Proposed Action and Alternatives, including the No Action Alternative. This Finding of No Significant Impact (FONSI) summarizes the DISA's evaluation of the Proposed Action and Alternatives.

Alternatives Considered: Prior to selection of the PRANG facility, several government facility sites were considered for the landing point in Puerto Rico. Site visits were made to each location in addition to development of preliminary terrestrial and marine cable routing concepts. The main sites considered were the U.S. Coast Guard Base, Aguadilla, the CBP Facility, Boquerón, the CBP Facility, Ponce, the CBP Facility, Mayaguez, and the PRANG Base, Punta Salinas. The Preferred landing site is the PRANG Base at Punta Salinas. Once the general site was chosen, two approaches to the area were considered, one from the north/west and one from the south/east. The Northern approach was selected as, using a horizontal directionally drilled (HDD) solution, the cable will come ashore well beneath the active high energy surf zone. The HDD drill path is straight forward and will allow an easy direct lay from the main lay installation vessel.

Deepwater Cable Route Alternatives—Several deep-water route alternatives were evaluated as part of the cable route planning process with the final route selection chosen to maximize the cable protection while minimizing the environmental impact. These alternatives were not analyzed with respect to impacts on the human or natural environment because the DISA determined that the action of a one-time, direct-laid SFOC system on the seabed has been demonstrated in past commercial and government project actions worldwide to ordinarily have only a minor, localized, and transient effect on the environment. Therefore, the action lacks the potential to cause significant harm to the environment outside the U.S. and meets the exemption requirement (E2.3.3.1.1) to prepare environmental documentation under Executive Order (E.O.) 12114, Environmental Effects Abroad of Major Federal Actions.

No Action Alternative—The No Action Alternative would be not to proceed with the GTMO-PR SFOC system project linking NAVSTAGTMO at Guantanamo Bay, Cuba with the Fort Buchanan facility in Puerto Rico. NAVSTAGTMO would continue to operate with existing Phase 1 SFOC and backup satellite communication capabilities which would not meet the operational need for reliability and additional bandwidth nor provide a secure disaster recovery plan.

Conclusion: The GTMO-PR SFOC EA was prepared and evaluated pursuant to NEPA, CEQ regulations at 40 CFR 1500-1508, and 32 CFR part 188. DISA has concluded that, based on the analyses presented in the GTMO-PR SFOC EA, no significant direct, indirect, or cumulative impacts would occur as a result of the Proposed Action. Therefore, no further study under NEPA is required, and a FONSI is thus warranted. In addition, the Proposed Action lacks the potential to cause significant harm to the environment outside the U.S. and thus is exempt from further environmental analyses under Executive Order 12114. Accordingly, the DISA approved the installation and operation of the GTMO-PR SFOC.

Dated: December 19, 2017.
Aaron Siegel,
Alternate OSD Federal Register Liaison Officer, Department of Defense.

[FR Doc. 2017-27584 Filed 12-21-17; 8:45 am]

BILLING CODE 5001-06-P